DEPARTMENT OF TRANSPORTATION

Federal Aviation Administration

14 CFR Parts 1, 21, 25, 26, 27, 34, 43, 45, 60, 61, 63, 65, 91, 97, 107, 110, 119, 121, 125, 129, 133, 135, 137, 141, 142, 145, and 183

[Docket No.: FAA-2018-0119; Amdt Nos. 1-72, 21-101, 25-145, 26-7, 27-49, 34-6, 43-50, 45-31, 60-5, 61-141, 63-40, 65-56, 91-350, 97-1338, 107-2, 110-2, 119-19, 121-380, 125-68, 129-53, 133-16, 135-139, 137-17, 141-19, 142-10, 145-32, 183-17]

RIN 2120-AL05

Aviation Safety Organization Changes

AGENCY: Federal Aviation Administration (FAA), DOT.

ACTION: Final rule.

SUMMARY: The FAA Aircraft Certification Service (AIR) and Flight Standards Service (AFS) have reorganized to align with functional organization design concepts. The AIR reorganization included eliminating product directorates and restructuring and re-designating field offices. The AFS reorganization included eliminating geographic regions, realigning headquarters organizations, and restructuring field offices. Currently, various rules in the Code of Federal Regulations refer to specific AIR and AFS offices that are obsolete after the reorganizations. This rule replaces specific references with generic references not dependent on any particular office structure. This rule does not impose any new obligations and is only intended to eliminate any confusion about with whom regulated entities and other persons should interact when complying with these various rules in the future.

DATES: Effective March 5, 2018.

FOR FURTHER INFORMATION CONTACT: For questions concerning AIR offices referred to in this action, contact Suzanne Masterson, Transport Standards Branch (AIR-670), Policy and Innovation Division, Aircraft Certification Service, Federal Aviation Administration, 2200 South 216th St., Des Moines, WA 98189; telephone (206) 231-3211 or (425) 227-1855; email suzanne.masterson@faa.gov.

For questions concerning AFS offices referred to in this action, contact Joseph Hemler, Commercial Operations Branch (AFS-820), Flight Standards Service, Federal Aviation Administration, 55 M Street SE, 8th floor, Washington, DC 20003-3522; telephone (202) 267-1100; email joseph.k.hemler-jr@faa.gov.

SUPPLEMENTARY INFORMATION:

Good Cause for Immediate Adoption

Section 553(b)(3)(A) of the Administrative Procedure Act (APA) (5 U.S.C.) authorizes agencies to dispense with notice and comment procedures for rules of agency organization, procedure, or practice, except when notice or hearing is required by statute. Under this section, an agency may issue a final rule without seeking comment prior to the rulemaking.

Additionally, section 553(b)(3)(B) of the APA authorizes agencies to dispense with notice and comment procedures for rules when the agency for “good cause” finds that those procedures are “impracticable, unnecessary, or contrary to the public interest.” Under this section, an agency, upon finding good cause, may issue a final rule without seeking comment prior to the rulemaking. The FAA finds that notice and public comment to this immediately adopted final rule are unnecessary because this rule meets the exception of section 553(b)(3)(A). The sole purpose of this rule is to reflect organizational changes within AIR and AFS. This rule imposes no additional requirements on the public. Therefore, the FAA has determined that notice and public comment are unnecessary.

The FAA further finds, under 5 U.S.C. 553(d)(3), that good cause exists for making this rule effective upon publication in the Federal Register. It is unnecessary to delay the effective date of this rule because the final rule consists only of organizational amendments that have no substantive effect on the public.

Authority for This Rulemaking

The FAA's authority to issue rules is found in Title 49 of the United States Code. Subtitle I, Section 106 describes the authority of the FAA Administrator.

This rulemaking is promulgated under the authority described in 49 U.S.C. 106(f), which establishes the authority of the Administrator to promulgate regulations and rules, including rules that carry out the functions of the agency.

This regulation is within the scope of that authority because the rule makes non-substantive edits to agency organization, procedure, or practice that guides the public's interaction with AIR and AFS.

I. Overview of Immediately Adopted Final Rule

AIR and AFS have reorganized to align with a functional organization design concept. Currently, various rules in title 14 of the Code of Federal Regulations (14 CFR) parts 21, 25, 26, 27, 34, 91, 121, 125, 129, 135, and 183 refer to specific AIR offices that are obsolete after its reorganization. Additionally, various rules in 14 CFR parts 1, 43, 45, 60, 61, 63, 65, 91, 97, 107, 110, 119, 121, 125, 129, 133, 135, 137, 141, 142, 145, and 183 refer to specific AFS offices that are obsolete after its reorganization. This rule replaces specific office references with generic references not dependent on any particular office structure. This rule is intended to eliminate any confusion about with whom regulated entities and other persons should interact when complying with these various rules in the future.

II. Background

AIR and AFS have played a critical role in assuring that the U.S. National Airspace System operates at the highest level of safety. This level of safety has been achieved through the development of standards, policy, and guidance to assure the safe design and production of aviation products, as well as the safe and standardized certification, operation, and oversight of multiple types of FAA certificate holders.

The aviation system is rapidly changing, placing greater demands on its participants. It is more complex, interconnected, and reliant on new technologies. Each component of the aircraft certification safety system—which extends beyond AIR and AFS to include industry's role in ensuring compliance to regulations, and the public's participation in the regulatory process—must address the challenges posed by the changing environment. The FAA's ability to meet the diverse and ever-increasing expectations of its stakeholders, including the flying public, industry, Congress, and other certification authorities, requires fundamental changes to several aspects of the aircraft, airmen, and operator certification safety system, including the organizational structure of AIR and AFS.

The AIR and AFS management teams evaluated changing domestic and global demands on AIR and AFS and determined a need for improved organizational efficiencies in order to provide other civil aviation authorities, manufacturers, and stakeholders with consistent and predictable outputs. The management teams evaluated feasible options and selected a functional organization design concept. AIR's reorganization into functional divisions has built necessary infrastructure to enable a comprehensive approach to becoming more efficient and effective. AIR has implemented and completed its reorganization in a phased approach. Product directorates have been eliminated in 2017 and replaced with functional divisions. Field offices have been reorganized and re-designated. For further details on this reorganization, please refer to https://www.faa.gov/news/fact_sheets/news_story.cfm?newsId=21315 and https://www.faa.gov/about/office_org/headquarters_offices/avs/offices/air/transformation/.

You can also obtain more information on the new AIR organization and the responsibilities and functions of the AIR divisions in FAA Order 8100.5C, “Aircraft Certification Service—Organizational Structure and Functions.” AIR also created a new order, FAA Order 8100.18, “Aircraft Certification Service Organizational Realignment References,” that facilitates the use of existing AIR policy and guidance after the realignment of AIR by detailing which new AIR office takes the place of which former AIR office. These orders are available online at https://www.faa.gov/regulations_policies/orders_notices/.

The AFS reorganization into functional areas aligns its infrastructure to more efficiently and effectively meet the needs of the aviation industry and improve standardization and agility to changing world needs while providing oversight for continued operational safety. AFS has eliminated regional offices, realigned headquarters organizations, and restructured field offices. More functional alignment in field offices will take place in the future. Where legacy AFS references exist, the user can access the Flight Standards Information Management System (FSIMS) publication page (http://fsims.faa.gov/PublicationForm.aspx) and select “Future of Flight Standards (FFS) Updates” found under “Active Publication.” This link provides a listing that translates organizational codes from the legacy AFS structure to the FFS structure.

III. Discussion of Immediately Adopted Final Rule

Certain offices referenced in various rules under 14 CFR parts 1, 21, 25, 26, 27, 34, 43, 45, 60, 61, 63, 65, 91, 97, 107, 110, 119, 121, 125, 129, 133, 135, 137, 141, 142, 145, and 183 are obsolete due to AIR and AFS reorganization. References to non-existent offices may cause confusion for applicants, approval holders, and certificate holders in the future when interacting with AIR and AFS. The FAA is replacing specific references with generic references not dependent on any particular office structure. This rule is intended to eliminate any confusion about with whom regulated entities and other persons should interact when complying with these various rules in the future.

The new AIR and AFS organizations will continue to maintain offices throughout the United States that—for the public—perform the same functions and provide the same services that those offices performed previously. However, the names of these offices and their internal reporting structure have changed, and may continue to change over time. The generic references to offices that the FAA used in this rule are intended to refer to the same offices as the previous specific references, but with references to regions or localities removed, along with specific office names. The generic references also include offices that have international duties. Table 1 provides the specific changes for nomenclature. Additionally, some manager and director titles have changed, but these new titles are of equivalent hierarchy within the FAA. One advantage of AIR and AFS restructuring is to allow for a more-virtual work environment with less dependence on geographic region, which accommodates resource sharing among offices performing the same functions, resulting in more efficiency.

This rule does not change any existing processes. Processes for public interaction with AIR and AFS (such as application processes, reporting processes, and oversight processes) are documented in orders, notices, advisory circulars (ACs), and policy statements. These documents are available online at https://www.faa.gov/regulations_policies/. AIR and AFS will continue to provide the public the opportunity to comment on any proposed revisions to these documents prior to incorporation.

Where general references to “the FAA” are introduced in specific sections, existing advisory material for the affected section specifies the AIR and AFS offices responsible for the function identified in that section. For example, in § 21.3, the FAA is replacing the words “Aircraft Certification Office in the region in which the person required to make the report is located” with the word “FAA.” AC 21-9B, “Manufacturers Reporting Failures, Malfunctions, or Defects,” provides instructions on reporting to specific offices within AIR. The existing AIR advisory material remains in effect and is not affected by the realignment of AIR, except as noted in FAA Order 8100.18. Similarly, AFS's advisory material remains in effect and is not affected by the realignment of AFS, except as noted in FAA Order 1100.1.

Table 1—Revised Nomenclature and Affected Sections of 14 CFR
Old nomenclature/ current CFR | New nomenclature/ revision | Affected sections of 14 CFR
a Flight Standards District Office | the responsible Flight Standards office | § 107.63.
an FAA Flight Standards District Office | a Flight Standards office | §§ 61.55, 61.77, and 133.15.
an FAA Flight Standards District Office | the responsible Flight Standards office | § 141.67.
an FAA Flight Standards district office | the responsible Flight Standards office | § 91.203.
an FAA Flight Standards District Office or an International Field Office | the responsible Flight Standards office | § 65.93.
Advanced Qualification Program | Air Transportation Division | §§ 121.909 and 121.923.
Aircraft Certification Office (ACO), or office of the Transport Airplane Directorate, having cognizance over the type certificate for the affected airplane | responsible Aircraft Certification Service office for the affected airplane | Special Federal Aviation Regulation No. 88 to part 21.
Aircraft Certification Office in the region in which the person required to make the report is located | FAA | § 21.3.
appropriate aircraft certification office | FAA | §§ 21.47, 21.75, 21.113, 21.618, and 21.619.
appropriate FAA Flight Standards District Office, Alaskan Region | responsible Flight Standards office | Appendix C to part 121.
assigned Flight Standards Office | responsible Flight Standards office | §§ 121.1117 and 129.117.
Certificate Holding District Office | responsible Flight Standards office | § 121.314.
certificate holding district office | responsible Flight Standards office | Appendix P to part 121 and §§ 121.103, 121.121, 125.51, 145.163, 145.207, 145.209, 145.211, 145.215, and 145.217.
certificate-holding district office | responsible Flight Standards office | §§ 119.37, 119.41, 119.47, 119.51, 119.57, 119.61, 119.65, 119.69, 121.97, 121.117, 121.291, 121.405, 121.467, 121.565, 121.585, 121.586, 121.628, 121.685, 135.91, 135.129, 135.179, 135.213, 135.273, 135.417, and 135.431.
certificate holding district office (CHDO) | responsible Flight Standards office | Appendix G to part 135 and § 121.374.
certificate-holding FAA Flight Standards District Office | responsible Flight Standards office | §§ 133.25, 133.31, and 135.243.
CHDO | responsible Flight Standards office | Appendix G to part 135 and § 121.374.
Director | Executive Director | §§ 60.5, 60.29, 91.317, 91.415, 91.1017, 91.1431, 119.41, 119.51, 121.97, 121.117, 121.417, 121.585, 125.35, 125.206, 129.11, 135.129, 135.158, and 137.17.
Director of | Executive Director | § 183.33.
district office | office | § 133.33.
Director, Aircraft Certification Service, or the Director's designee | Aircraft Certification Service | § 183.11.
district office that has jurisdiction over | responsible Flight Standards office for | § 133.15.
either apply to the appropriate aircraft certification office for an STC or apply | apply to the FAA either for an STC, or | § 21.113.
FAA aircraft certification office | Aircraft Certification Service office | § 21.4.
FAA Aircraft Certification Office (ACO), or office of the Transport Airplane Directorate, having cognizance over | responsible Aircraft Certification Service office for | §§ 121.1107, 125.505, and 129.107.
FAA Aircraft Certification Office (ACO), or office of the Transport Airplane Directorate, having cognizance over the type certificate | responsible Aircraft Certification Service office | Special Federal Aviation Regulation No. 88 to part 21.
FAA (Aircraft Certification Office (ACO), or office of the Transport Airplane Directorate, having cognizance over the type certificate for the affected airplane) | responsible Aircraft Certification Service office for the affected airplane | Special Federal Aviation Regulation No. 88 to part 21.
FAA Certificate Holding District Office | responsible Flight Standards office | §§ 121.368 and 135.426.
FAA certificate holding district office | responsible Flight Standards office | § 121.99.
FAA certificate-holding district office | responsible Flight Standards office | § 121.373.
FAA certificate-holding office | responsible Flight Standards office | § 133.21.
FAA Flight Standards District Office | Flight Standards office | §§ 61.55, 61.64, and 61.77.
FAA Flight Standards District Office | responsible Flight Standards office | § 135.19.
FAA Flight Standards district office | responsible Flight Standards office | §§ 125.21, 125.25, 125.35, 125.47, 125.71, 125.219, and 125.295.
FAA Flight Standards District Office having geographic responsibility | responsible Flight Standards office | § 129.14.
FAA Flight Standards District Office having jurisdiction over | responsible Flight Standards office for | §§ 133.25, 133.33, 137.17, 137.51, 141.25, 141.53, and 141.91.
FAA Flight Standards District Office having jurisdiction over the area in which his home base of operations is located | responsible Flight Standards office | § 133.27.
FAA Flight Standards district office having jurisdiction over the area in which the applicant is located | responsible Flight Standards office | § 91.409.
FAA Flight Standards district office having jurisdiction over the area in which the operator is located | responsible Flight Standards office | § 91.213.
FAA Flight Standards District Office having jurisdiction over the school | responsible Flight Standards office | § 141.37.
FAA Flight Standards District Office last having jurisdiction over his operation | responsible Flight Standards office | § 137.77.
FAA Flight Standards district office nearest the airport where the flight will originate | responsible Flight Standards office | § 91.23.
FAA Flight Standards District Office or International Field Office | responsible Flight Standards office | § 65.95.
FAA Flight Standards District Office responsible for the geographic area concerned | responsible Flight Standards office | § 119.1.
FAA Flight Standards District Office that has jurisdiction over | responsible Flight Standards office for | § 137.15 and 142.11.
FAA Flight Standards District Office with jurisdiction over the geographical area | responsible Flight Standards office for the area | § 91.146.
FAA office responsible for administering its type certificate | responsible Aircraft Certification Service office | § 21.4.
FAA Oversight Office | responsible Aircraft Certification Service office | Appendices M and N to part 25 and §§ 26.11, 26.21, 26.23, 26.33, 26.35, 26.43, 26.45, 26.47, 26.49, 91.1507, 121.1109, 121.1111, 121.1113, 121.1117, 125.507, 125.509, 129.109, 129.111, 129.113, and 129.117.
FAA Regional Flight Standards Division | Flight Standards office | Appendix C to part 121.
FAA type certificate holding office | Aircraft Certification Service office | § 21.4.
Flight Standards District Office | Flight Standards office | Special Federal Aviation Regulation No. 100-2 to part 61 and §§ 61.85, 91.1015, 91.1017, 91.1053, 91.1109, 91.1415, 91.1417, 129.5, and 129.11.
Flight Standards District Office | responsible Flight Standards office | Special Federal Aviation Regulation No. 50-2 to part 91 and §§ 45.22, 125.201, 133.25, 135.4, and 137.17.
Flight Standards district office | Flight Standards office | § 135.243.
Flight Standards District Office (FSDO) | Flight Standards office | § 91.1507.
Flight Standards District Offices | Flight Standards offices | Special Federal Aviation Regulation No. 100-2 to part 61.
Flight Standards District Office having jurisdiction of the area in which the applicant is located | responsible Flight Standards office | Appendix A to part 91.
Flight Standards District Office in whose area the applicant proposes to establish or has established his or her principal base of operations | responsible Flight Standards office | § 119.36.
Flight Standards District Office nearest | responsible Flight Standards office for | § 133.25.
Flight Standards District Office nearest to its principal place of business | responsible Flight Standards office | § 91.147.
Flight Standards District Office or International Field Office | responsible Flight Standards office | Appendix G to part 121.
Flight Standards District Office that has jurisdiction over the area | responsible Flight Standards office | § 141.87.
Flight Standards Division Manager in the region of the certificate holding district office | appropriate Flight Standards division manager in the responsible Flight Standards office | § 121.358.
Flight Standards Division Manager or Aircraft Certification Directorate Manager of the FAA region in which the airshow is located | appropriate Flight Standards Division Manager or Aircraft Certification Service Division Director responsible for the airshow location | § 91.715.
Flight Standards Division Manager or Aircraft Certification Directorate Manager of the FAA region in which the applicant is located or to the region within which the U.S. point of entry is located | appropriate Flight Standards Division Manager, or Aircraft Certification Service Division Director | § 91.715.
Flight Standards International Field Office | Flight Standards office | §§ 129.111, 129.113, and 129.115.
in writing the appropriate aircraft certification office | the FAA in writing | § 21.47.
local Flight Standards District Office | responsible Flight Standards office | Appendix B to part 63.
local FAA Flight Standards district office | responsible Flight Standards office | § 91.409.
local FAA Flight Standards district office having jurisdiction over the area in which the aircraft is based | responsible Flight Standards office | § 91.409.
Manager of the Transport Airplane Directorate, Aircraft Certification Service, Federal Aviation Administration | Director of the division of the Aircraft Certification Service responsible for the airworthiness rules | §§ 121.310, 121.312, and 135.170.
Manager, Aircraft Certification Office, or the Manager's designee | Aircraft Certification Service | §§ 183.11.
Manufacturing Inspection District Office in the geographic area in which the manufacturer or air carrier is located | FAA | § 21.215.
nearest FAA Flight Standards District Office | responsible Flight Standards office | Special Federal Aviation Regulations No. 79 and No. 104 to part 91 and §§ 91.1603, 121.723, 135.43, and 137.1.
nearest FAA Flight Standards district office | responsible Flight Standards office | § 91.23.
nearest FAA Flight Standards District Office (FSDO) | responsible Flight Standards office | §§ 91.1607, 91.1611, and 91.1613.
nearest Flight Standards District Office | responsible Flight Standards office | §§ 125.3 and 135.160.
Regional Office | responsible Flight Standards office | Appendix B to part 63.
responsible FAA aircraft certification office | FAA office responsible for the design approval | Appendix K to part 25.
that district office | the responsible Flight Standards office | § 125.35.

In addition to the above nomenclature changes, this rule makes the following conforming changes:

• In §§ 1.2 and 110.2, removes the acronym and definition for certificate holding district office because the FAA no longer uses this nomenclature in the rules.

• In § 21.15, removes the reference “and is submitted to the appropriate aircraft certification office” because the FAA no longer uses this nomenclature in the rules and this information is adequately addressed by existing guidance on submitting applications for type certificates.

• In § 21.603, removes the reference “to the appropriate aircraft certification office” because the FAA no longer uses this nomenclature in the rules and this information is adequately addressed by existing guidance on submitting applications for technical standard order authorizations.

• In §§ 26.3, 91.1501, 121.1101, 125.501, and 129.101, removes the definition of “FAA Oversight Office” because the FAA no longer uses this nomenclature in the rules.

• In § 34.60, removes the reference to the “Aircraft Certification Office” because the FAA no longer uses this nomenclature in the rules.

• In appendix B to part 43, removes references to office designators “AFS-750” and “AFS-751”, which are obsolete references.

• In appendices A and C to part 60, removes the contact information for Ed Cook, Senior Advisor to the Division Manager, Air Transportation Division, because this information is obsolete and not necessary.

• In §§ 60.5 and 60.29, removes the reference to “AFS-1”, which is an obsolete reference.

• In § 91.1505, replaces the words “that have been approved by the FAA Aircraft Certification Office (ACO), or office of the Transport Airplane Directorate, having cognizance over the type certificate for the affected airplane are incorporated within its inspection program:” with “are incorporated within its inspection program. The repair assessment guidelines must be approved by the responsible Aircraft Certification Service office for the type certificate for the affected airplane.” This revision does not change the requirements of this section. It clarifies the wording so it is easier to understand and harmonizes the sentence structure with the other rules for repairs assessment of pressurized fuselages in §§ 121.1107, 125.505, and 129.107.

• In appendix P to part 121, removes the reference to “AFS-200”, which is an obsolete reference.

• In § 97.20, replaces “FAA National Aeronautical Charting Office. These charts are available for purchase from the FAA's National Aeronautical Charting Office, Distribution Division, 6303 Ivy Lane, Suite 400, Greenbelt, MD 20770” with “FAA. These charts are available from the FAA at https://www.faa.gov/air_traffic/flight_info/aeronav/digital_products/” because the FAA has ceased the sale of paper charts and now publishes charts for free on the internet.

• In § 125.509, replaces the word “Office” with the word “office” to create a generic reference.

In addition, this rule removes the Transport Airplane Directorate address from §§ 25.5 and 25.795 and removes the Rotorcraft Standards Staff address from § 27.685. These addresses were provided as one option to obtain documents incorporated by reference in the rule. With the movement of the Northwest Regional office and the movement to a more virtual work environment, the FAA addresses provided may change and require more flexibility. Therefore, we have removed these addresses. Per 5 CFR 51.7, documents incorporated by reference need to be “reasonably available” to regulated entities. Additional options for obtaining these documents from the National Archives and Records Administration (NARA) and other locations such as the National Institute of Justice at no cost continue to be listed in the rule. This rule also updates the website reference to NARA in these sections.

IV. Regulatory Notices and Analyses

Changes to Federal regulations must undergo several economic analyses. First, Executive Orders 12866 and 13563 direct that each Federal agency shall propose or adopt a regulation only upon a reasoned determination that the benefits of the intended regulation justify its costs. Second, the Regulatory Flexibility Act of 1980 (Pub. L. 96-354), as codified in 5 U.S.C. 603 et seq., requires agencies to analyze the economic impact of regulatory changes on small entities. Third, the Trade Agreements Act of 1979 (Pub. L. 96-39), as amended, 19 U.S.C. Chapter 13, prohibits agencies from setting standards that create unnecessary obstacles to the foreign commerce of the United States. In developing U.S. standards, the Trade Agreements Act requires agencies to consider international standards and, where appropriate, that they be the basis of U.S. standards. Fourth, the Unfunded Mandates Reform Act of 1995 (Pub. L. 104-4), as codified in 2 U.S.C. 1532, requires agencies to prepare a written assessment of the costs, benefits, and other effects of proposed or final rules that include a Federal mandate likely to result in the expenditure by State, local, or tribal governments, in the aggregate, or by the private sector, of $100 million or more annually (adjusted for inflation with a base year of 1995). This portion of the preamble summarizes the FAA's analysis of the economic impacts of this final rule.

In conducting these analyses, the FAA has determined this final rule is not a “significant regulatory action,” as defined in section 3(f) of Executive Order 12866. The rule is also not “significant” as defined in the Department of Transportation's (DOT's) Regulatory Policies and Procedures. The final rule will not have a significant economic impact on a substantial number of small entities, will not create unnecessary obstacles to international trade, and will not impose an unfunded mandate on State, local, or tribal governments, or on the private sector.

A. Regulatory Evaluation

DOT Order 2100.5 prescribes policies and procedures for simplification, analysis, and review of regulations. If the expected cost impact is so minimal that a proposed or final rule does not warrant a full evaluation, this order permits a statement to that effect and the basis for it to be included in the preamble if a full regulatory evaluation of the costs and benefits is not prepared. Such a determination has been made for this final rule. The reasoning for this determination follows:

AIR and AFS have reorganized to align with functional organization design concepts. The AIR reorganization included eliminating product directorates and restructuring and re-designating field offices. The AFS reorganization included eliminating geographic regions and moving to a more functionally based organization. Specific AIR and AFS office references currently in 14 CFR are obsolete post-reorganization and will be replaced by generic references not dependent on any particular office structure. This rule is intended to clarify any confusion over which offices regulated entities and other persons should interact with when complying with 14 CFR regulations. Since this rule involves non-substantial clarifying editorial changes only, the costs of the rule will be minimal.

B. Regulatory Flexibility Determination

The Regulatory Flexibility Act of 1980 (Pub. L. 96-354, “RFA”) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

As discussed above, since the rule involves non-substantial editorial changes only, due to FAA reorganization, the FAA finds the costs of this rule will be minimal. Therefore, as provided in section 605(b), the head of the FAA certifies that this rulemaking will not result in a significant economic impact on a substantial number of small entities.

C. International Trade Impact Assessment

The Trade Agreements Act of 1979 (Pub. L. 96-39), as amended, prohibits Federal agencies from establishing standards or engaging in related activities that create unnecessary obstacles to the foreign commerce of the United States. Pursuant to this Act, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this rule and has determined that the rule is in accord with the Trade Agreements Act as the rule applies equally to domestic and foreign persons engaged in aviation activities under 14 CFR.

D. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $155 million in lieu of $100 million.

This final rule does not contain such a mandate; therefore, the requirements of Title II of the Act do not apply.

E. Paperwork Reduction Act

The Paperwork Reduction Act of 1995 (44 U.S.C. 3507(d)) requires that the FAA consider the impact of paperwork and other information collection burdens imposed on the public. The FAA has determined that there is no new requirement for information collection associated with this immediately adopted final rule.

F. International Compatibility

In keeping with U.S. obligations under the Convention on International Civil Aviation, it is FAA policy to conform to International Civil Aviation Organization (ICAO) Standards and Recommended Practices to the maximum extent practicable. The FAA has reviewed the corresponding ICAO Standards and Recommended Practices and has identified no differences with these proposed regulations.

G. Environmental Analysis

FAA Order 1050.1F identifies FAA actions that are categorically excluded from preparation of an environmental assessment or environmental impact statement under the National Environmental Policy Act in the absence of extraordinary circumstances. The FAA has determined this rulemaking action qualifies for the categorical exclusion identified in paragraph 5-6.6(d), which covers the issuance of regulatory documents covering administrative or procedural requirements and involves no extraordinary circumstances.

V. Executive Order Determinations

A. Executive Order 13132, Federalism

The FAA has analyzed this immediately adopted final rule under the principles and criteria of Executive Order 13132, “Federalism.” The agency determined that this action will not have a substantial direct effect on the States, or the relationship between the Federal Government and the States, or on the distribution of power and responsibilities among the various levels of government, and, therefore, does not have Federalism implications.

B. Executive Order 13211, Regulations That Significantly Affect Energy Supply, Distribution, or Use

The FAA analyzed this immediately adopted final rule under Executive Order 13211, “Actions Concerning Regulations that Significantly Affect Energy Supply, Distribution, or Use” (May 18, 2001). The agency has determined that it is not a “significant energy action” under the executive order and it is not likely to have a significant adverse effect on the supply, distribution, or use of energy.

C. Executive Order 13609, International Cooperation

Executive Order 13609, “Promoting International Regulatory Cooperation,” promotes international regulatory cooperation to meet shared challenges involving health, safety, labor, security, environmental, and other issues and to reduce, eliminate, or prevent unnecessary differences in regulatory requirements. The FAA has analyzed this action under the policies and agency responsibilities of Executive Order 13609, and has determined that this action would have no effect on international regulatory cooperation.

D. Executive Order 13771, Reducing Regulation and Controlling Regulatory Costs

Executive Order 13771 titled “Reducing Regulation and Controlling Regulatory Costs,” directs that, unless prohibited by law, whenever an executive department or agency publicly proposes for notice and comment or otherwise promulgates a new regulation, it shall identify at least two existing regulations to be repealed. In addition, any new incremental costs associated with new regulations shall, to the extent permitted by law, be offset by the elimination of existing costs. Only those rules deemed significant under section 3(f) of Executive Order 12866, “Regulatory Planning and Review,” are subject to these requirements.

This rule is not an Executive Order 13771 regulatory action because this rule is not significant under Executive Order 12866.

VI. How To Obtain Additional Information

A. Rulemaking Documents

An electronic copy of a rulemaking document may be obtained from the internet by—

1. Searching the Federal eRulemaking Portal (http://www.regulations.gov);

2. Visiting the FAA's Regulations and Policies web page at http://www.faa.gov/regulations_policies/; or

3. Accessing the Government Printing Office's web page at http://www.gpo.gov/fdsys/.

Copies may also be obtained by sending a request (identified by notice, amendment, or docket number of this rulemaking) to the Federal Aviation Administration, Office of Rulemaking, ARM-1, 800 Independence Avenue SW, Washington, DC 20591, or by calling (202) 267-9680.

B. Small Business Regulatory Enforcement Fairness Act

The Small Business Regulatory Enforcement Fairness Act (SBREFA) of 1996 requires FAA to comply with small entity requests for information or advice about compliance with statutes and regulations within its jurisdiction. A small entity with questions regarding this document, may contact its local FAA official, or the person listed under the FOR FURTHER INFORMATION CONTACT heading at the beginning of the preamble. To find out more about SBREFA on the internet, visit http://www.faa.gov/regulations_policies/rulemaking/sbre_act/.

List of Subjects

14 CFR Part 1

Air transportation.

14 CFR Part 21

Aircraft, Aviation safety, Exports, Imports, Reporting and recordkeeping requirements.

14 CFR Part 25

Aircraft, Aviation safety, Reporting and recordkeeping requirements.

14 CFR Part 26

Aircraft, Aviation safety.

14 CFR Part 27

Aircraft, Aviation safety.

14 CFR Part 34

Air pollution control, Aircraft.

14 CFR Part 43

Aircraft, Aviation safety, Reporting and recordkeeping requirements.

14 CFR Part 45

Aircraft, Exports, Signs and symbols.

14 CFR Part 60

Airmen, Aviation safety, Reporting and recordkeeping requirements.

14 CFR Part 61

Aircraft, Airmen, Alcohol abuse, Aviation safety, Drug abuse, Recreation and recreation areas, Reporting and recordkeeping requirements, Security measures, Teachers.

14 CFR Part 63

Aircraft, Airmen, Alcohol abuse, Aviation safety, Drug abuse, Navigation (air), Reporting and recordkeeping requirements, Security measures.

14 CFR Part 65

Air traffic controllers, Aircraft, Airmen, Airports, Alcohol abuse, Aviation safety, Drug abuse, Reporting and recordkeeping requirements, Security measures.

14 CFR Part 91

Air carrier, Air taxis, Air traffic controller, Aircraft, Airmen, Airports, Alaska, Aviation safety, Canada, Charter flights, Cuba, Drug traffic control, Ethiopia, Freight, Incorporation by reference, Iraq, Mexico, Noise control, North Korea, Political candidates, Reporting and recordkeeping, Somalia, Syria, Transportation.

14 CFR Part 97

Air traffic control, Airports, Navigation (air), Weather.

14 CFR Part 107

Aircraft, Airmen, Aviation safety, Reporting and recordkeeping, Security measures, Signs and symbols.

14 CFR Part 110

Administrative practice and procedure, Air carriers, Aircraft, Aviation safety, Charter flights, Reporting and recordkeeping requirements.

14 CFR Part 119

Administrative practice and procedure, Air carriers, Aircraft, Aviation safety, Charter flights, Reporting and recordkeeping requirements.

14 CFR Part 121

Air carriers, Aircraft, Airmen, Alcohol abuse, Aviation safety, Charter flights, Drug abuse, Drug testing, Reporting and recordkeeping requirements, Safety, Transportation.

14 CFR Part 125

Aircraft, Airmen, Aviation safety, Reporting and recordkeeping.

14 CFR Part 129

Air carriers, Administration Aircraft, Aviation safety, Reporting and recordkeeping, Security measures, Smoking.

14 CFR Part 133

Aircraft, Aviation safety, Reporting and recordkeeping requirements.

14 CFR Part 135

Air taxis, Aircraft, Airmen, Alcohol abuse, Aviation safety, Drug abuse, Drug testing, Reporting and recordkeeping requirements.

14 CFR Part 137

Agriculture, Aircraft, Aviation safety, Reporting and recordkeeping requirements.

14 CFR Part 141

Airmen, Educational facilities, Reporting and recordkeeping requirements, Schools.

14 CFR Part 142

Administrative practice and procedure, Airmen, Educational facilities, Reporting and recordkeeping requirements, Schools, Teachers.

14 CFR Part 145

Aircraft, Aviation safety, Reporting and recordkeeping requirements.

14 CFR Part 183

Aircraft, Airmen, Authority delegations (Government agencies), Health professions, Reporting and recordkeeping requirements.

The Amendment

In consideration of the foregoing, the Federal Aviation Administration amends chapter I of title 14, Code of Federal Regulations as follows:

PART 1—DEFINITIONS AND ABBREVIATIONS

1. The authority citation for part 1 continues to read as follows:

Authority: 49 U.S.C. 106(f), 106(g), 40113, 44701.

§ 1.2 [Amended]

2. In § 1.2, remove the definition for CHDO.

PART 21—CERTIFICATION PROCEDURES FOR PRODUCTS AND ARTICLES

3. The authority citation for part 21 continues to read as follows:

Authority: 42 U.S.C. 7572; 49 U.S.C. 106(f), 106(g), 40105, 40113, 44701-44702, 44704, 44707, 44709, 44711, 44713, 44715, 45303.

Special Federal Regulation No. 88 [Amended]

4. Amend Special Federal Regulation No. 88 as follows:

a. In paragraph 2(a), remove the words “FAA (Aircraft Certification Office (ACO), or office of the Transport Airplane Directorate, having cognizance over the type certificate for the affected airplane)” and add, in their place, the words “responsible Aircraft Certification Service office for the affected airplane”.

b. In paragraph 2(c), remove the words “FAA Aircraft Certification Office (ACO), or office of the Transport Airplane Directorate, having cognizance over the type certificate” and add, in their place, the words “responsible Aircraft Certification Service office”.

c. In paragraph 2(d), remove the words “Aircraft Certification Office (ACO), or office of the Transport Airplane Directorate, having cognizance over the type certificate for the affected airplane,” and add, in their place, the words “responsible Aircraft Certification Service office for the affected airplane”.

§ 21.3 [Amended]

5. In § 21.3(e)(1), remove the words “Aircraft Certification Office in the region in which the person required to make the report is located” and add, in their place, the word “FAA”.

§§ 21.3, 21.47, 21.75, 21.113, 21.618, and 21.619 [Amended]

6. In addition to the amendment set forth above, in 14 CFR part 21, remove the words “appropriate aircraft certification office” and add, in their place, the word “FAA” in the following places:

a. Section 21.3(f);

b. Section 21.47(c);

c. Section 21.75;

d. Section 21.113(b);

e. Section 21.618(b); and

f. Section 21.619(a).

§ 21.4 [Amended]

7. Amend § 21.4 as follows:

a. In paragraph (a)(1) introductory text, remove the words “FAA aircraft certification office,” and add, in their place, the words “Aircraft Certification Service office,”.

b. In paragraph (b)(1) introductory text, remove the words “FAA type certificate holding office” and add, in their place, the words “Aircraft Certification Service office”; and remove the words “FAA office responsible for administering its type certificate” and add, in their place, the words “responsible Aircraft Certification Service office”.

§ 21.15 [Amended]

8. In § 21.15(a), after the words “prescribed by the FAA” and before the period, remove the words “and is submitted to the appropriate aircraft certification office”.

§ 21.47 [Amended]

9. In § 21.47(b) and (d), remove the words “in writing the appropriate aircraft certification office” and add, in their place, the words “the FAA in writing”.

§ 21.113 [Amended]

10. In addition to the amendments set forth above, in § 21.113(a), remove the words “either apply to the appropriate aircraft certification office for an STC or apply” and add, in their place, the words “apply to the FAA either for an STC, or”.

§ 21.215 [Amended]

11. In § 21.215, remove the words “Manufacturing Inspection District Office in the geographic area in which the manufacturer or air carrier is located” and add, in their place, the word “FAA”.

§ 21.603 [Amended]

12. In § 21.603(a) introductory text, remove the words “to the appropriate aircraft certification office”.

PART 25—AIRWORTHINESS STANDARDS: TRANSPORT CATEGORY AIRPLANES

13. The authority citation for part 25 continues to read as follows:

Authority: 49 U.S.C. 106(f), 106(g), 40113, 44701, 44702 and 44704.

§ 25.5 [Amended]

14. In § 25.5(a):

a. Remove the words “, and at FAA, Transport Airplane Directorate, Aircraft Certification Service, 1601 Lind Avenue SW., Renton, Washington 98057-3356”; and

b. Remove the text “http://www.archives.gov/federal_register/code_of_federal_regulations/ibr_locations.html” and add, in its place, the text “http://www.archives.gov/federal-register/cfr/ibr-locations.html”.

15. Amend § 25.795 by revising paragraphs (f)(2)(i) and (ii) and removing paragraph (f)(2)(iii) to read as follows:

§ 25.795 Security considerations.

* * * * *

(f) * * *

(2) * * *

(i) National Institute of Justice (NIJ), http://www.ojp.usdoj.gov/nij, telephone (202) 307-2942; or

(ii) National Archives and Records Administration (NARA). For information on the availability of this material at NARA, call (202) 741-6030, or go to http://www.archives.gov/federal-register/cfr/ibr-locations.html.

* * * * *

Appendix K to Part 25 [Amended]

16. In sections K25.2.2(h)(1)(i) and (ii) and K25.3.2(e)(1)(i) and (ii) of appendix K to part 25, remove the words “responsible FAA aircraft certification office” and add, in their place, the words “FAA office responsible for the design approval”.

Appendix M and Appendix N to Part 25 [Amended]

17. In part 25, remove the words “FAA Oversight Office” and add, in their place, the words “responsible Aircraft Certification Service office” in the following places:

a. Section M25.5(b) and (c) of appendix M; and

b. Section N25.3(e) of appendix N.

PART 26—CONTINUED AIRWORTHINESS AND SAFETY IMPROVEMENTS FOR TRANSPORT CATEGORY AIRPLANES

18. The authority citation for part 26 continues to read as follows:

Authority: 49 U.S.C. 106(g), 40113, 44701, 44702 and 44704.

§ 26.3 [Removed and Reserved]

19. Remove and reserve § 26.3.

§§ 26.11, 26.21, 26.23, 26.33, 26.35, 26.43, 26.45, 26.47, and 26.49 [Amended]

20. In 14 CFR part 26, remove the words “FAA Oversight Office” and add, in their place, the words “responsible Aircraft Certification Service office” in the following places:

a. Section 26.11(b), (c)(1), (e) introductory text, and (e)(3);

b. Section 26.21(b)(2) introductory text, (b)(2)(ii), (b)(4), (d)(3), and (e) introductory text;

c. Section 26.23(b)(2) and (3);

d. Section 26.33(b)(1), (d)(1) and (2), (e), (f), (g) introductory text, (h) introductory text, and (h)(3);

e. Section 26.35(b)(1), (c) introductory text, (d)(1), (f) introductory text, and (f)(3);

f. Section 26.43(b)(2), (c)(3), (d)(2), (e)(2), (f) introductory text, and (f)(4);

g. Section 26.45(b)(3), (c)(2), (d)(3), and (e) introductory text;

h. Section 26.47(b)(3), (c)(2), (d)(3), and (e) introductory text; and

i. Section 26.49(a)(3) and (b) introductory text.

PART 27—AIRWORTHINESS STANDARDS: NORMAL CATEGORY ROTORCRAFT

21. The authority citation for part 27 continues to read as follows:

Authority: 49 U.S.C. 106(f), 106(g), 40113, 44701-44702, 44704.

§ 27.685 [Amended]

22. Amend § 27.685(d)(4) as follows:

a. Remove the words “at the FAA, Rotorcraft Standards Staff, 4400 Blue Mount Road, Fort Worth, Texas, or”.

b. Remove the text “http://www.archives.gov/federal_register/code_of_federal_regulations/ibr_locations.html” and add, in its place, the text “http://www.archives.gov/federal-register/cfr/ibr-locations.html”.

PART 34—FUEL VENTING AND EXHAUST EMISSION REQUIREMENTS FOR TURBINE ENGINE POWERED AIRPLANES

23. The authority citation for part 34 continues to read as follows:

Authority: 42 U.S.C. 4321 et seq., 7572; 49 U.S.C. 106(g), 40113, 44701-44702, 44704, 44714.

§ 34.60 [Amended]

24. In § 34.60(e), remove the words “Aircraft Certification Office”.

PART 43—MAINTENANCE, PREVENTIVE MAINTENANCE, REBUILDING, AND ALTERATION

25. The authority citation for part 43 continues to read as follows:

Authority: 42 U.S.C. 7572; 49 U.S.C. 106(f), 106(g), 40105, 40113, 44701-44702, 44704, 44707, 44709, 44711, 44713, 44715, 45303.

Appendix B to Part 43 [Amended]

26. Amend appendix B to part 43 as follows:

a. In paragraph (c)(2), remove the text “AFS-750,”.

b. In paragraph (d)(3), remove the text “AFS-751,”.

PART 45—IDENTIFICATION AND REGISTRATION MARKING

27. The authority citation for part 45 continues to read as follows:

Authority: 49 U.S.C. 106(f), 106(g), 40103, 40113-40114, 44101-44105, 44107-44111, 44504, 44701, 44708-44709, 44711-44713, 44725, 45302-45303, 46104, 46304, 46306, 47122.

§ 45.22 [Amended]

28. In § 45.22(a)(3)(i), remove the words “Flight Standards District Office” and add, in their place, the words “responsible Flight Standards office”.

PART 60—FLIGHT SIMULATION TRAINING DEVICE INITIAL AND CONTINUING QUALIFICATION AND USE

29. The authority citation for part 60 continues to read as follows:

Authority: 49 U.S.C. 106(f), 106(g), 40113, and 44701; Pub. L. 111-216, 124 Stat. 2348 (49 U.S.C. 44701 note).

§§ 60.5 and 60.29 [Amended]

30. In part 60, remove the text “AFS-1,” in the following places:

a. Section 60.5(d); and

b. Section 60.29(b)(2).

§§ 60.5 and 60.29 [Amended]

31. In addition to the amendments set forth above, in 14 CFR part 60, remove all references to “Director” and add, in their place, the words “Executive Director” in the following places:

a. Section 60.5(d); and

b. Section 60.29(a)(4)(ii) and (b)(2).

Appendix A to Part 60 [Amended]

32a. In Attachment 6 to appendix A, under FSTD Directive 1, remove the For Further Information Contact paragraph.

Appendix C to Part 60 [Amended]

32b. In Attachment 5 to appendix C, remove the For Further Information Contact paragraph.

PART 61—CERTIFICATION: PILOTS, FLIGHT INSTRUCTORS, AND GROUND INSTRUCTORS

33. The authority citation for part 61 continues to read as follows:

Authority: 49 U.S.C. 106(f), 106(g), 40113, 44701-44703, 44707, 44709-44711, 44729, 44903, 45102-45103, 45301-45302; Sec. 2307 Pub. L. 114-190, 130 Stat. 615 (49 U.S.C. 44703 note).

Special Federal Aviation Regulation No. 100-2 [Amended]

34. Amend Special Federal Aviation Regulation No. 100-2 as follows:

a. In paragraph 1 introductory text, remove the words “District Offices” and add, in their place, the word “offices”; and

b. In paragraph 3 introductory text, remove the words “District Office” and add, in their place, the word “office”.

§ 61.55, 61.64, and 61.77 [Amended]

35. In 14 CFR part 61, remove all references to “FAA Flight Standards District Office” and add, in their place, “Flight Standards office” in the following places:

a. Section 61.55(d)(6);

b. Section 61.64(g)(4); and

c. Section 61.77(b)(5).

§ 61.55 and 61.77 [Amended]

36. In 14 CFR part 61, remove the words “an FAA Flight Standards District Office” and add, in their place, the words “a Flight Standards office” in the following places:

a. Section 61.55(d)(3) and (4) and (e)(3), (4), and (6); and

b. Section 61.77(b) introductory text.

§ 61.85 [Amended]

37. In § 61.85(b), remove the words “District Office” and add, in their place, the word “office”.

PART 63—CERTIFICATION: FLIGHT CREWMEMBERS OTHER THAN PILOTS

38. The authority citation for part 63 continues to read as follows:

Authority: 49 U.S.C. 106(g), 40113, 44701-44703, 44707, 44709-44711, 45102-45103, 45301-45302.

Appendix B to Part 63 [Amended]

39. Amend appendix B to part 63 as follows:

a. In paragraphs (f) introductory text, (j)(2) and (3), (k)(2), and (m), remove the words “local Flight Standards District Office” and add, in their place, the words “responsible Flight Standards office”.

b. In paragraphs (j)(2) and (3), remove the words “regional office” and add, in their place, the words “responsible Flight Standards office”.

PART 65—CERTIFICATION: AIRMEN OTHER THAN FLIGHT CREWMEMBERS

40. The authority citation for part 65 continues to read as follows:

Authority: 49 U.S.C. 106(f), 106(g), 40113, 44701-44703, 44707, 44709-44711, 45102-45103, 45301-45302.

§ 65.93 [Amended]

41. In § 65.93(a) introductory text, remove the words “an FAA Flight Standards District Office or an International Field Office” and add, in their place, the words “the responsible Flight Standards office”.

§ 65.95 [Amended]

42. In § 65.95(c), remove the words “FAA Flight Standards District Office or International Field Office” and add, in their place, the words “responsible Flight Standards office”.

PART 91—GENERAL OPERATING AND FLIGHT RULES

43. The authority citation for part 91 continues to read as follows:

Authority: 49 U.S.C. 106(f), 106(g), 1155, 40101, 40103, 40105, 40113, 40120, 44101, 44111, 44701, 44704, 44709, 44711, 44712, 44715, 44716, 44717, 44722, 46306, 46315, 46316, 46504, 46506-46507, 47122, 47508, 47528-47531, 47534, Pub. L. 114-190, 130 Stat. 615 (49 U.S.C. 44703 note) articles 12 and 29 of the Convention on International Civil Aviation (61 Stat. 1180), (126 Stat. 11).

Special Federal Aviation Regulation No. 50-2 [Amended]

44. In Special Federal Regulation No. 50-2, remove the words “Flight Standards District Office” and add, in their place, the words “responsible Flight Standards office” in the following places:

a. Section 3(a)(2), (b), and (c)(2);

b. Section 4 introductory text; and

c. Section 5 introductory text.

Special Federal Aviation Regulation No. 79 [Amended]

45. In section 4 of Special Federal Aviation Regulation No. 79, remove the words “nearest FAA Flight Standards District Office” and add, in their place, the words “responsible Flight Standards office”.

Special Federal Aviation Regulation No. 104 [Amended]

46. In section 4 of Special Federal Aviation Regulation No. 104, remove the words “nearest FAA Flight Standards District Office” and add, in their place, the words “responsible Flight Standards office”.

§ 91.23 [Amended]

47. Amend § 91.23 as follows:

a. In paragraph (a)(3), remove the words “nearest FAA Flight Standards district office” and add, in their place, the words “responsible Flight Standards office”.

b. In paragraph (c)(3) introductory text, remove the words “FAA Flight Standards district office nearest the airport where the flight will originate” and add, in their place, the words “responsible Flight Standards office”.

§ 91.146 [Amended]

48. In § 91.146(e) introductory text, remove the words “FAA Flight Standards District Office with jurisdiction over the geographical area” and add, in their place, the words “responsible Flight Standards office for the area”.

§ 91.147 [Amended]

49. In § 91.147(b), remove the words “Flight Standards District Office nearest to its principal place of business” and add, in their place, the words “responsible Flight Standards office”.

§ 91.203 [Amended]

50. In § 91.203(a)(1), remove the words “an FAA Flight Standards district office” and add, in their place, the words “the responsible Flight Standards office”.

§ 91.213 [Amended]

51. In § 91.213(a)(2), remove the words “FAA Flight Standards district office having jurisdiction over the area in which the operator is located,” and add, in their place, the words “responsible Flight Standards office,”.

§§ 91.317, 91.415, 91.1017, and 91.1431 [Amended]

52. In 14 CFR part 91, remove all references to “Director” and add, in their place, the words “Executive Director” in the following places:

a. Section 91.317(c);

b. Section 91.415(c);

c. Section 91.1017(d)(2); and

d. Section 91.1431(c).

§ 91.409 [Amended]

53. Amend § 91.409 as follows:

a. In paragraph (d) introductory text, remove the words “FAA Flight Standards district office having jurisdiction over the area in which the applicant is located” and add, in their place, the words “responsible Flight Standards office”.

b. In the undesignated paragraph following paragraph (d)(4), remove the words “local FAA Flight Standards district office” and add, in their place, the words “responsible Flight Standards office”.

c. In paragraph (g) introductory text, remove the words “local FAA Flight Standards district office having jurisdiction over the area in which the aircraft is based” and add, in their place, the words “responsible Flight Standards office”.

54. Amend § 91.715 by revising paragraph (a) to read as follows:

§ 91.715 Special flight authorization for foreign civil aircraft.

(a) Foreign civil aircraft may be operated without airworthiness certificates required under § 91.203 if a special flight authorization for that operation is issued under this section. Application for a special flight authorization must be made to the appropriate Flight Standards Division Manager, or Aircraft Certification Service Division Director. However, in the case of an aircraft to be operated in the U.S. for the purpose of demonstration at an airshow, the application may be made to the appropriate Flight Standards Division Manager or Aircraft Certification Service Division Director responsible for the airshow location.

* * * * *

§§ 91.1015, 91.1017, 91.1053, 91.1109, 91.1415, and 91.1417 [Amended]

55. In addition to the amendments set forth above, in 14 CFR part 91, remove all references to “District Office” and add, in their place, the word “office” in the following places:

a. Section 91.1015(d);

b. Section 91.1017(b)(1) and (2), (b)(3) introductory text, (b)(4) introductory text, (b)(4)(i), (c)(2), (c)(3) introductory text, (c)(4), (d) introductory text, (d)(3), and (e);

c. Section 91.1053(b);

d. Section 91.1109(b) introductory text;

e. Section 91.1415(d); and

f. Section 91.1417 introductory text.

§ 91.1501 [Amended]

56. Amend § 91.1501 by removing and reserving paragraph (b).

57. Amend § 91.1505 by revising paragraph (a) introductory text to read as follows:

§ 91.1505 Repairs assessment for pressurized fuselages.

(a) No person may operate an Airbus Model A300 (excluding the -600 series), British Aerospace Model BAC 1-11, Boeing Model 707, 720, 727, 737 or 747, McDonnell Douglas Model DC-8, DC-9/MD-80 or DC-10, Fokker Model F28, or Lockheed Model L-1011 airplane beyond applicable flight cycle implementation time specified below, or May 25, 2001, whichever occurs later, unless repair assessment guidelines applicable to the fuselage pressure boundary (fuselage skin, door skin, and bulkhead webs) are incorporated within its inspection program. The repair assessment guidelines must be approved by the responsible Aircraft Certification Service office for the type certificate for the affected airplane.

* * * * *

§ 91.1507 [Amended]

58. Amend § 91.1507 as follows:

a. In paragraphs (b) and (d), remove the words “FAA Oversight Office” and add, in their place, the words “responsible Aircraft Certification Service office”.

b. In paragraph (f), remove the words “Flight Standards District Office (FSDO)” and add, in their place, the words “Flight Standards office”.

§ 91.1603 [Amended]

59. In § 91.1603(d), remove the words “nearest FAA Flight Standards District Office” and add, in their place, the words “responsible Flight Standards office”.

§ 91.1607, 91.1611, and 91.1613 [Amended]

60. In part 91, remove the words “nearest FAA Flight Standards District Office (FSDO)” and add, in their place, the words “responsible Flight Standards office” in the following places:

a. Section 91.1607(d);

b. Section 91.1611(d); and

c. Section 91.1613(d).

Appendix A to Part 91 [Amended]

61. In section 1(a) introductory text of appendix A to part 91, remove the words “Flight Standards District Office having jurisdiction of the area in which the applicant is located” and add, in their place, the words “responsible Flight Standards office”.

PART 97—STANDARD INSTRUMENT PROCEDURES

62. The authority citation for part 97 continues to read as follows:

Authority: 49 U.S.C. 106(f), 106(g), 40103, 40106, 40113, 40114, 40120, 44502, 44514, 44701, 44719, and 44721-44722.

63. Amend § 97.20 by revising paragraph (c) to read as follows:

§ 97.20 General.

* * * * *

(c) Standard instrument approach procedures and takeoff minimums and obstacle departure procedures (ODPs) are depicted on aeronautical charts published by the FAA. These charts are available from the FAA at https://www.faa.gov/air_traffic/flight_info/aeronav/digital_products/.

PART 107—SMALL UNMANNED AIRCRAFT SYSTEMS

64. The authority citation for part 107 continues to read as follows:

Authority: 49 U.S.C. 106(f), 40101 note, 40103(b), 44701(a)(5); Sec. 333 of Pub. L. 112-95, 126 Stat. 75.

§ 107.63 [Amended]

65. In § 107.63(b)(1), remove the words “a Flight Standards District Office” and add, in their place, the words “the responsible Flight Standards office”.

PART 110—GENERAL REQUIREMENTS

66. The authority citation for part 110 continues to read as follows:

Authority: 49 U.S.C. 106(g), 1153, 40101, 40102, 40103, 40113, 44105, 44106, 44111, 44701-44717, 44722, 44901, 44903, 44904, 44906, 44912, 44914, 44936, 44938, 46103, 46105.

§ 110.2 [Amended]

67. In § 110.2, remove the definition for Certificate-holding district office.

PART 119—CERTIFICATION: AIR CARRIERS AND COMMERCIAL OPERATORS

68. The authority citation for part 119 continues to read as follows:

Authority: Pub. L. 111-216, sec. 215 (August 1, 2010); 49 U.S.C. 106(f), 106(g), 1153, 40101, 40102, 40103, 40113, 44105, 44106, 44111, 44701-44717, 44722, 44901, 44903, 44904, 44906, 44912, 44914, 44936, 44938, 46103, 46105.

§ 119.1 [Amended]

69. In § 119.1(e)(7)(iv), remove the words “FAA Flight Standards District Office responsible for the geographic area concerned” and add, in their place, the words “responsible Flight Standards office”.

§ 119.36 [Amended]

70. In § 119.36(a), remove the words “Flight Standards District Office in whose area the applicant proposes to establish or has established his or her principal base of operations” and add, in their place, the words “responsible Flight Standards office”.

§§ 119.37, 119.41, 119.47, 119.51, 119.57, 119.61, 119.65, and 119.69 [Amended]

71. In 14 CFR part 119, remove all references to “certificate-holding district office” and add, in their place, the words “responsible Flight Standards office” in the following places:

a. Section 119.37(e);

b. Section 119.41(a)(2), (c)(1) and (2), and (d);

c. Section 119.47(b);

d. Section 119.51(b)(1) and (2), (b)(3) introductory text, (b)(4) introductory text, (b)(4)(i), (c)(2), (c)(3) introductory text, (c)(4), (d) introductory text, (d)(3), (e);

e. Section 119.57(b)(2)(ii);

f. Section 119.61(c);

g. Section 119.65(e)(3); and

h. Section 119.69(e)(3).

§§ 119.41 and 119.51 [Amended]

72. In addition to the amendments set forth above, remove the word “Director” and add, in its place, the words “Executive Director” in the following places:

a. Section 119.41(d)(2); and

b. Section 119.51(d)(2).

PART 121—OPERATING REQUIREMENTS: DOMESTIC, FLAG, AND SUPPLEMENTAL OPERATIONS

73. The authority citation for part 121 continues to read as follows:

Authority: 49 U.S.C. 106(f), 106(g), 40103, 40113, 40119, 41706, 42301 preceding note added by Pub. L. 112-95, sec. 412, 126 Stat. 89, 44101, 44701-44702, 44705, 44709-44711, 44713, 44716-44717, 44722, 44729, 44732; 46105; Pub. L. 111-216, 124 Stat. 2348 (49 U.S.C. 44701 note); Pub. L. 112-95 126 Stat 62 (49 U.S.C. 44732 note).

§ 121.97, 121.117, 121.291, 121.405, 121.467, 121.565, 121.585, 121.586, 121.628, and 121.685 [Amended]

74. In 14 CFR part 121, remove all references to “certificate-holding district office” and add, in their place, the words “responsible Flight Standards office” in the following places:

a. Section 121.97(c);

b. Section 121.117(c);

c. Section 121.291(c)(2) and (4);

d. Section 121.405(e);

e. Section 121.467(c)(2);

f. Section 121.565(d);

g. Section 121.585(n)(2);

h. Section 121.586(b) and (c);

i. Section 121.628(a)(2); and

j. Section 121.685.

§ 121.97, 121.117, 121.417, and 121.585 [Amended]

75. In addition to the amendments set forth above, in 14 CFR part 121, remove all references to “Director” and add, in their place, the words “Executive Director” in the following places:

a. Section 121.97(c);

b. Section 121.117(c);

c. Section 121.417(d); and

d. Section 121.585(p).

§ 121.99 [Amended]

76. In § 121.99(a), remove the words “FAA certificate holding district office” and add, in their place, the words “responsible Flight Standards office”.

§§ 121.103 and 121.121 and Appendix P to Part 121 [Amended]

77. In 14 CFR part 121, remove the words “certificate holding district office” and add, in their place, the words “responsible Flight Standards office” in the following places:

a. Section 121.103(b)(3);

b. Section 121.121(b)(3); and

c. Section I(e)(1)(v) of appendix P to part 121.

§§ 121.310 and 121.312 [Amended]

78. In 14 CFR part 121, remove the words “Manager of the Transport Airplane Directorate, Aircraft Certification Service, Federal Aviation Administration,” and add, in their place, the words “Director of the division of the Aircraft Certification Service responsible for the airworthiness rules” in the following places:

a. Section 121.310(f)(3)(iv) and (v); and

b. Section 121.312(a)(4).

§ 121.314 [Amended]

79. In § 121.314(d)(2), remove the words “Certificate Holding District Office” and add, in their place, the words “responsible Flight Standards office”.

§ 121.35 8 [Amended]

80. In § 121.358(c)(1), remove the words “Flight Standards Division Manager in the region of the certificate holding district office” and add, in their place, the words “appropriate Flight Standards division manager in the responsible Flight Standards office”.

§ 121.368 [Amended]

81. In § 121.368(h), remove the words “FAA Certificate Holding District Office,” and add, in their place, the words “responsible Flight Standards office,”.

§ 121.373 [Amended]

82. In § 121.373(c), remove the words “FAA certificate-holding district office” and add, in their place, the words “responsible Flight Standards office”.

§ 121.374 [Amended]

83. Amend § 121.374 as follows:

a. In paragraph (h)(1) introductory text, remove the words “certificate holding district office (CHDO)” and add, in their place, the words “responsible Flight Standards office”.

b. In paragraphs (h)(2), (i)(2), and (o), remove all references to “CHDO” and add, in its place, the words “responsible Flight Standards office”.

§ 121.723 [Amended]

84. In § 121.723, remove the words “nearest FAA Flight Standards District Office” and add, in their place, the words “responsible Flight Standards office”.

§§ 121.909 and 121.923 [Amended]

85. In part 121, remove the words “Advanced Qualification Program” and add, in their place, the words “Air Transportation Division” in the following places:

a. Section 121.909(a); and

b. Section 121.923(a)(2).

§ 121.1101 [Amended]

86. In § 121.1101, remove and reserve paragraph (b).

§ 121.1107 [Amended]

87. In § 121.1107(a) introductory text:

a. Remove the word “McDonnel” and add, in its place, the word “McDonnell”; and

b. Remove the words “FAA Aircraft Certification Office (ACO), or office of the Transport Airplane Directorate, having cognizance over” and add, in their place, the words “responsible Aircraft Certification Service office for”.

§§ 121.1109, 121.1111, 121.1113, and 121.1117 [Amended]

88. In part 121, remove the words “FAA Oversight Office” and add, in their place, the words “responsible Aircraft Certification Service office” in the following places:

a. Section 121.1109(c)(2);

b. Section 121.1111(c) introductory text;

c. Section 121.1113(b) and (d); and

d. Section 121.1117(c)(2), (d)(1), and (g).

§ 121.1117 [Amended]

89. In addition to the amendments set forth above, in § 121.1117(k)(1), remove the words “assigned Flight Standards Office” and add, in their place, the words “responsible Flight Standards office”.

Appendix C to Part 121 [Amended]

90. Amend appendix C to part 121 as follows:

a. In paragraph 1(a)(2), remove the words “FAA Regional Flight Standards Division” and add, in their place, the words “Flight Standards office”.

b. In paragraph 1(b), remove the words “appropriate FAA Flight Standards District Office, Alaskan Region,” and add, in their place, the words “responsible Flight Standards office”.

Appendix G to Part 121 [Amended]

91. In paragraph 1(a) of appendix G to part 121, remove the words “Flight Standards District Office or International Field Office” and add, in their place, the words “responsible Flight Standards office”.

Appendix P to Part 121 [Amended]

92. In addition to the amendments set forth above, in section I(e)(1)(v) of appendix P to part 121, remove the words “to AFS-200”.

PART 125—CERTIFICATION AND OPERATIONS: AIRPLANES HAVING A SEATING CAPACITY OF 20 OR MORE PASSENGERS OR A MAXIMUM PAYLOAD CAPACITY OF 6,000 POUNDS OR MORE; AND RULES GOVERNING PERSONS ON BOARD SUCH AIRCRAFT

93. The authority citation for part 125 continues to read as follows:

Authority: 49 U.S.C. 106(f), 106(g), 40113, 44701-44702, 44705, 44710-44711, 44713, 44716-44717, 44722.

§ 125.3 [Amended]

94. In § 125.3(c), remove the words “nearest Flight Standards District Office” and add, in their place, the words “responsible Flight Standards office”.

§§ 125.21, 125.25, 125.35, 125.47, 125.71, 125.219, and 125.295 [Amended]

95. In 14 CFR part 125, remove the words “FAA Flight Standards district office” and add, in their place, the words “responsible Flight Standards office” in the following places:

a. Section 125.21(a);

b. Section 125.25(c);

c. Section 125.35(a) introductory text, (b), and (d);

d. Section 125.47;

e. Section 125.71(d)(2);

f. Section 125.219(e); and

g. Section 125.295.

§ 125.35 [Amended]

96. In addition to the amendments set forth above, amend § 125.35 as follows:

a. In paragraphs (a)(2) and (d), remove all references to “that district office” and add, in their place, the words “the responsible Flight Standards office”.

b. In paragraphs (c) and (d), remove all references to “Director” and add, in their place, the words “Executive Director”.

§ 125.51 [Amended]

97. In § 125.51(b)(3), remove the words “certificate holding district office” and add, in their place, the words “responsible Flight Standards office”.

§ 125.201 [Amended]

98. In § 125.201(a)(2), remove the words “Flight Standards District Office” and add, in their place, the words “responsible Flight Standards office”.

§ 125.206 [Amended]

99. In § 125.206(b) introductory text and (b)(2), remove the word “Director” and add, in its place, the words “Executive Director”.

§ 125.501 [Amended]

100. In § 125.501, remove and reserve paragraph (b).

§ 125.505 [Amended]

101. In § 125.505(a) introductory text:

a. Remove the word “exlcuding” and add, in its place, the word “excluding”; and

b. Remove the words “FAA Aircraft Certification Office (ACO), or office of the Transport Airplane Directorate, having cognizance over” and add, in their place, the words “responsible Aircraft Certification Service office for”.

§§ 125.507 and 125.509 [Amended]

102. In 14 CFR part 125, remove the words “FAA Oversight Office” and add, in their place, the words “responsible Aircraft Certification Service office” in the following places:

a. Section 125.507(b) and (d); and

b. Section 125.509(c)(2), (d)(1), and (g).

§ 125.509 [Amended]

103. In addition to the amendments set forth above, in § 125.509(i), remove the word “Office” and add, in its place, the word “office”.

PART 129—OPERATIONS: FOREIGN AIR CARRIERS AND FOREIGN OPERATORS OF U.S.-REGISTERED AIRCRAFT ENGAGED IN COMMON CARRIAGE

104. The authority citation for part 129 continues to read as follows:

Authority: 49 U.S.C. 1372, 40113, 40119, 44101, 44701-44702, 44705, 44709-44711, 44713, 44716-44717, 44722, 44901-44904, 44906, 44912, 46105, Pub. L. 107-71 sec. 104.

§§ 129.5 and 129.11 [Amended]

105. In 14 CFR part 129, remove all references to “District Office” and add, in their place, the word “office” in the following places:

a. Section 129.5(g); and

b. Section 129.11(c)(1) and (2), (c)(3) introductory text, (c)(4) introductory text, (c)(4)(i), (d)(2), (d)(3) introductory text, (d)(4), (f) introductory text, (f)(3), and (g).

§ 129.11 [Amended]

106. In addition to the amendments set forth above, in § 129.11(f)(2), remove the word “Director” and add, in its place, the words “Executive Director”.

§ 129.14 [Amended]

107. In § 129.14(b)(2), remove the words “FAA Flight Standards District Office having geographic responsibility” and add, in their place, the words “responsible Flight Standards office”.

§ 129.101 [Amended]

108. In § 129.101, remove and reserve paragraph (b).

§ 129.107 [Amended]

109. In § 129.107(a) introductory text, remove the words “FAA Aircraft Certification Office (ACO), or office of the Transport Airplane Directorate, having cognizance over” and add, in their place, the words “responsible Aircraft Certification Service office for”.

§§ 129.109, 129.111, 129.113, and 129.117 [Amended]

110. In 14 CFR part 129, remove the words “FAA Oversight Office” and add, in their place, the words “responsible Aircraft Certification Service office” in the following places:

a. Section 129.109(b)(2);

b. Section 129.111(c) introductory text;

c. Section 129.113(b) and (d); and

d. Section 129.117(c)(2), (d)(1), and (g).

§§ 129.111, 129.113, and 129.115 [Amended]

111. In addition to the amendments set forth above, in 14 CFR part 129, remove the words “International Field Office” and add, in their place, the word “office” in the following places:

a. Section 129.111(e);

b. Section 129.113(f); and

c. Section 129.115(e).

§ 129.117 [Amended]

112. In addition to the amendments set forth above, in § 129.117(i) and (k)(1), remove the words “assigned Flight Standards Office” and add, in their place, the words “responsible Flight Standards office”.

PART 133—ROTORCRAFT EXTERNAL-LOAD OPERATIONS

113. The authority citation for part 133 continues to read as follows:

Authority: 49 U.S.C. 106(g), 40113, 44701-44702.

§ 133.15 [Amended]

114. In § 133.15:

a. Remove the words “an FAA Flight Standards District Office” and add, in their place, the words “a Flight Standards office”; and

b. Remove the words “district office that has jurisdiction over” and add, in their place, the words “responsible Flight Standards office for”.

§ 133.21 [Amended]

115. In § 133.21(c), remove the words “FAA certificate-holding office” and add, in their place, the words “responsible Flight Standards office”.

§ 133.25 [Amended]

116. Amend § 133.25 as follows:

a. In paragraph (a):

i. Remove the words “FAA Flight Standards District Office having jurisdiction over” and add, in their place, the words “responsible Flight Standards office for”;

ii. Remove the words “Flight Standards District Office nearest” and add, in their place, the words “responsible Flight Standards office for”;

iii. Remove the comma after “§§ 133.19” and before “and 133.49”; and

iv. Remove the words “Flight Standards District Office” and add, in their place, the words “responsible Flight Standards office”.

b. In paragraph (b), remove the words “certificate-holding FAA Flight Standards District Office” and add, in their place, the words “responsible Flight Standards office”.

§ 133.27 [Amended]

117. In § 133.27(c), remove the words “FAA Flight Standards District Office having jurisdiction over the area in which his home base of operations is located” and add, in their place, the words “responsible Flight Standards office”.

§ 133.31 [Amended]

118. In § 133.31(b), remove the words “certificate-holding FAA Flight Standards District Office” and add, in their place, the words “responsible Flight Standards office”.

§ 133.33 [Amended]

119. In § 133.33(d)(1):

a. Remove the words “FAA Flight Standards District Office having jurisdiction over” and add, in their place, the words “responsible Flight Standards office for”; and

b. Remove the words “that district office” and add, in their place, the words “that office”.

PART 135—OPERATING REQUIREMENTS: COMMUTER AND ON DEMAND OPERATIONS AND RULES GOVERNING PERSONS ON BOARD SUCH AIRCRAFT

120. The authority citation for part 135 continues to read as follows:

Authority: 49 U.S.C. 106(f), 106(g), 41706, 40113, 44701-44702, 44705, 44709, 44711-44713, 44715-44717, 44722, 44730, 45101-45105; Pub. L. 112-95, 126 Stat. 58 (49 U.S.C. 44730).

§ 135.4 [Amended]

121. In § 135.4(b) introductory text, remove the words “Flight Standards District Office” and add, in their place, the words “responsible Flight Standards office”.

§ 135.19 [Amended]

122. In § 135.19(c), remove the words “FAA Flight Standards District Office” and add, in their place, the words “responsible Flight Standards office”.

§ 135.43 [Amended]

123. In § 135.43(b), remove the words “nearest FAA Flight Standards District Office” and add, in their place, the words “responsible Flight Standards office”.

§ 135.91, 135.129, 135.179, 135.213, 135.273, 135.417, and 135.431 [Amended]

124. In 14 CFR part 135, remove the words “certificate-holding district office” and add, in their place, the words “responsible Flight Standards office” in the following places:

a. Section 135.91(e);

b. Section 135.129(n)(2);

c. Section 135.179(a)(2);

d. Section 135.213(b);

e. Section 135.273(c)(2);

f. Section 135.417 introductory text; and

g. Section 135.431(c).

§§ 135.129 and 135.158 [Amended]

125. In addition to the amendments set forth above, in 14 CFR part 135, remove the word “Director” and add, in its place, the words “Executive Director” in the following places:

a. Section 135.129(p); and

b. Section 135.158(b) introductory text and (b)(2).

§ 135.160 [Amended]

126. In § 135.160(b), remove the words “nearest Flight Standards District Office” and add, in their place, the words “responsible Flight Standards office”.

§ 135.170 [Amended]

127. In § 135.170(b)(1)(vii), remove the words “Manager of the Transport Airplane Directorate, Aircraft Certification Service, Federal Aviation Administration,” and add, in their place, the words “Director of the division of the Aircraft Certification Service responsible for the airworthiness rules”.

§ 135.243 [Amended]

128. Amend § 135.243 as follows:

a. In paragraph (d)(3) introductory text, remove the words “district office” and add, in their place, “office”.

b. In paragraph (d)(7), remove the words “certificate-holding FAA Flight Standards district office” and add, in their place, the words “responsible Flight Standards office”.

§ 135.426 [Amended]

129. In § 135.426(h), remove the words “FAA Certificate Holding District Office” and add, in their place, the words “responsible Flight Standards office”.

Appendix G to Part 135 [Amended]

130. Amend appendix G to part 135 as follows:

a. In section G135.2.8(h) introductory text, remove the words “certificate holding district office (CHDO)” and add, in their place, the words “responsible Flight Standards office”.

b. In section G135.2.8(i) introductory text, (i)(2), and (o), remove the words “CHDO” and add, in their place, the words “responsible Flight Standards office”.

PART 137—AGRICULTURAL AIRCRAFT OPERATIONS

131. The authority citation for part 137 continues to read as follows:

Authority: 49 U.S.C. 106(g), 40103, 40113, 44701-44702.

§ 137.1 [Amended]

132. In § 137.1(c), remove the words “nearest FAA Flight Standards District Office” and add, in their place, the words “responsible Flight Standards office”.

§ 137.15 [Amended]

133. In § 137.15, remove the words “FAA Flight Standards District Office that has jurisdiction over” and add, in their place, the words “responsible Flight Standards office for”.

§ 137.17 [Amended]

134. Amend § 137.17 as follows:

a. In paragraph (b), remove the words “FAA Flight Standards District Office having jurisdiction over” and add, in their place, the words “responsible Flight Standards office for”.

b. In paragraph (c), remove the words “Flight Standards District Office” and add, in their place, the words “responsible Flight Standards office”.

c. In paragraph (d), remove the word “Director” and add, in its place, the words “Executive Director”.

§ 137.51 [Amended]

135. In § 137.51(b)(3), remove the words “FAA Flight Standards District Office having jurisdiction over” and add, in their place, the words “responsible Flight Standards office for”.

§ 137.77 [Amended]

136. In § 137.77, remove the words “FAA Flight Standards District Office last having jurisdiction over his operation” and add, in their place, the words “responsible Flight Standards office”.

PART 141—PILOT SCHOOLS

137. The authority citation for part 141 continues to read as follows:

Authority: 49 U.S.C. 106(f), 106(g), 40113, 44701-44703, 44707, 44709, 44711, 45102-45103, 45301-45302.

§§ 141.25, 141.53, and 141.91 [Amended]

138. In 14 CFR part 141, remove the words “FAA Flight Standards District Office having jurisdiction over” and add, in their place, the words “responsible Flight Standards office for” in the following places:

a. Section 141.25(d) introductory text;

b. Section 141.53(b)(1); and

c. Section 141.91(d).

§ 141.37 [Amended]

139. In § 141.37(b)(2), remove the words “FAA Flight Standards District Office having jurisdiction over the school” and add, in their place, the words “responsible Flight Standards office”.

§ 141.67 [Amended]

140. In § 141.67(d)(2), remove the words “an FAA Flight Standards District Office” and add, in their place, the words “the responsible Flight Standards office ”.

§ 141.87 [Amended]

141. In § 141.87(a), remove the words “Flight Standards District Office that has jurisdiction over the area” and add, in their place, the words “responsible Flight Standards office”.

PART 142—TRAINING CENTERS

142. The authority citation for part 142 continues to read as follows:

Authority: 49 U.S.C. 106(f), 106(g), 40113, 40119, 44101, 44701-44703, 44705, 44707, 44709-44711, 45102-45103, 45301-45302.

§ 142.11 [Amended]

143. In § 142.11(a)(2), remove the words “FAA Flight Standards District Office that has jurisdiction over” and add, in their place, the words “responsible Flight Standards office for”.

PART 145—REPAIRS STATIONS

144. The authority citation for part 145 continues to read as follows:

Authority: 49 U.S.C. 106(g), 40113, 44701-44702, 44704, 44709, 44717.

§ 145.163, 145.207, 145.209, 145.211, 145.215, and 145.217 [Amended]

145. In 14 CFR part 145, remove all references to “certificate holding district office” and add, in their place, the words “responsible Flight Standards office” in the following places:

a. Section 145.163(d);

b. Section 145.207(d) and (e);

c. Section 145.209(d)(1), (e), (h)(1) and (2), and (j);

d. Section 145.211(c)(4) and (d);

e. Section 145.215(d); and

f. Section 145.217(a)(2) introductory text.

PART 183—REPRESENTATIVES OF THE ADMINISTRATOR

146. The authority citation for part 183 continues to read as follows:

Authority: 31 U.S.C. 9701; 49 U.S.C. 106(f), 106(g), 40113, 44702, 45303.

§ 183.11 [Amended]

147. Amend § 183.11 as follows:

a. In paragraph (c)(1), remove the words “Manager, Aircraft Certification Office, or the Manager's designee,” and add, in their place, the words “Aircraft Certification Service”.

b. In paragraph (c)(2), remove the words “Manager, Aircraft Certification Directorate, or the Manager's designee,” and add, in their place, the words “Aircraft Certification Service”.

c. In paragraph (e), remove the words “Director, Aircraft Certification Service, or the Director's designee,” and add, in their place, the words “Aircraft Certification Service”.

§ 183.33 [Amended]

148. In § 183.33(a), remove the words “Director of” everywhere they appear and add, in their place, the words “Executive Director,”.

Issued under authority provided by 49 U.S.C. 106(f), 44701(a), and 44703 in Washington, DC, on January 24, 2018.
Daniel K. Elwell,
Acting Administrator.

[FR Doc. 2018-03374 Filed 3-2-18; 8:45 am]

BILLING CODE 4910-13-P